DEPARTMENT OF THE TREASURY

Submission for OMB Review; Comment Request

January 19, 2010.

The Department of Treasury will submit the following public information collection requirements to OMB for review and clearance under the Paperwork Reduction Act of 1995, Public Law 104-13 on or after the date of publication of this notice. A copy of this submission may be obtained by calling the Treasury Department Office Clearance Officers listed. Comments regarding these information collections should be addressed to the OMB reviewer listed and to the Treasury PRA Clearance Officer, Department of the Treasury, 1750 Pennsylvania Avenue, NW., Suite 11010, Washington, DC 20220.

DATES: Written comments should be received on or before February 24, 2010 to be assured of consideration.

Domestic Finance/Terrorism Risk Insurance Program (TRIP)

OMB Number: 1505-0190.

Type of Review: Extension of a currently approved collection.

Title: Terrorism Risk Insurance Program Rebuttal of Controlling Influence Submission.

Description: 31 CFR 50.8 specifies a rebuttal procedure that requires a written submission by an insurer that seeks to rebut a regulatory presumption of “controlling influence” over another insurer under the Terrorism Risk Insurance Program to provide Treasury with necessary information to make a determination.

Respondents: Businesses or other for-profits.

Estimated Total Reporting Burden: 400 hours.

TRIP Clearance Officer: Sara Clary, TRIP, 1425 New York Ave, NW., Washington, DC 20220; (202) 622-7139.

OMB Reviewer: Shagufta Ahmed, Office of Management and Budget, New Executive Office Building, Room 10235, Washington, DC 20503; (202) 395-7873.

Celina Elphage,
Treasury PRA Clearance Officer.

[FR Doc. 2010-1256 Filed 1-22-10; 8:45 am]

BILLING CODE 4810-25-P